DEPARTMENT OF TRANSPORTATION

Federal Aviation Administration

14 CFR Part 39

[Docket No. FAA-2013-1032; Directorate Identifier 2012-NM-121-AD]

RIN 2120-AA64

Airworthiness Directives; Dassault Aviation Airplanes

AGENCY: Federal Aviation Administration (FAA), DOT.

ACTION: Notice of proposed rulemaking (NPRM).

SUMMARY: We propose to supersede airworthiness directive (AD) 2011-13-07 that applies to all Dassault Aviation Model FALCON 7X airplanes. AD 2011-13-07 requires revising the airplane flight manual (AFM) to include a procedure to power off a radio-altimeter or revert to the correct radio-altimeter output. Since we issued AD 2011-13-07, an analysis showed that AFM procedures could be simplified. This proposed AD would require revising the AFM to include a simpler procedure to revert to the correct radio-altimeter output. We are proposing this AD to ensure that the flightcrew has procedures in the event of a radio-altimeter lock-up, which inhibits the display of warnings along with certain abnormal conditions, during the switch into landing mode during altitude cruise. If not corrected, this could result in the flightcrew being unaware of possible system failures that require immediate action by the flightcrew, leading to possible loss of control of the airplane.

DATES: We must receive comments on this proposed AD by February 10, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the MCAI, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2013-1032; Directorate Identifier 2012-NM-121-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 14, 2011, we issued AD 2011-13-07, Amendment 39-16730 (76 FR 36283, June 22, 2011). AD 2011-13-07 requires actions intended to address an unsafe condition on the products listed above.

Since we issued AD 2011-13-07, Amendment 39-16730 (76 FR 36283, June 22, 2011), the European Aviation Safety Agency (EASA), which is the Technical Agent for the Member States of the European Community, has issued EASA Airworthiness Directive 2009-0208R2, dated May 22, 2012 (referred to after this as the Mandatory Continuing Airworthiness Information, or “the MCAI”), to correct an unsafe condition for the specified products. The MCAI states:

Several occurrences of untimely radio-altimeter lock-up have been reported, where the failed radio-altimeter (RA) indicated a negative distance to the ground despite the aircraft was flying at medium or high altitude.

A locked RA #1 leads to untimely inhibition of warnings that could be displayed along with certain abnormal conditions while the avionic system switches into landing mode during altitude cruise.

This condition, if not corrected, may cause the flight crew to be unaware of possible system failures that could require immediate actions, which could ultimately lead to loss of control of the aeroplane.

To address this unsafe condition, Dassault Aviation developed an Airplane Flight Manual (AFM) operational procedure that, in case of RA #1 lock-up, allows the crew to restore the system warning performance by depowering the RA #1. EASA issued AD 2009-0208 [http://ad.easa.europa.eu/ad/2009-0208R3] to require application of that new abnormal procedure when RA #1 lock-up occurs. That EASA AD also prohibited dispatch of the aeroplane with any radio-altimeter inoperative.

Since issuance of EASA AD 2009-0208, Dassault Aviation developed Easy avionics load 10 which is embodied through Dassault Aviation production modification M0566 or in-service through Service Bulletin (SB) Falcon 7X n°100. This modification provides new features to display a “RA miscompare” flag on both Primary Display Units (PDU) and allows a commanded system reversion to the correct RA output.

Prompted by this modification, EASA issued AD 2009-0208R1 [ http://ad.easa.europa.eu/ad/2009-0208R3], to allow not deactivating RA #1 in case lock-up conditions occurred in flight, for aeroplanes on which M0566 or SB Falcon 7X n°100 was embodied.

Since issuance of EASA AD 2009-0208R1, further analysis shows that, for aeroplanes with M0566 applied in production, or SB Falcon 7X N°100 applied in service, the RA#2 lock-up occurrence should be addressed through a commanded system reversion, now only contained in a simplified Falcon 7X AFM procedure 3-140-70A.

For the reasons described above, this [EASA] AD revises EASA AD 2009-0208R1 to reduce the requirement to amend the AFM by deleting the reference to procedure 3-140-65B. In addition, Dassault Aviation have confirmed that all Falcon 7X have been or are being modified with Mod M0566 applied in production, or SB Falcon 7X n°100 applied in service. For this reason, paragraph (1) of this [EASA] AD has been deleted. Finally, many editorial changes have been made to align the writing of the AD with the current writing standards.

You may obtain further information by examining the MCAI in the AD docket.

Relevant Service Information

Dassault has issued Falcon 7X Airplane Flight Manual, DGT 105608, Revision 15, dated January 30, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 35 products of U.S. registry.

We estimate the following costs to comply with this proposed AD:

Estimated Costs
Action | Labor cost | Parts cost | Cost per product | Cost on U.S. operators
AFM revision [retained actions from AD 2011-13-07, Amendment 39-16730 (76 FR 36283, June 22, 2011)] | 1 work-hour × $85 per hour = $85 | None | $85 | $2,975
New AFM revision [new proposed action] | 1 work-hour × $85 per hour = $85 | None | 85 | 2,975

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-13-07, Amendment 39-16730 (76 FR 36283, June 22, 2011), and adding the following new AD:

Dassault Aviation: Docket No. FAA-2013-1032; Directorate Identifier 2012-NM-121-AD.

(a) Comments Due Date

We must receive comments by February 10, 2014.

(b) Affected ADs

This AD supersedes AD 2011-13-07, Amendment 39-16730 (76 FR 36283, June 22, 2011).

(c) Applicability

This AD applies to Dassault Aviation Model FALCON 7X airplanes, certificated in any category, all serial numbers.

(d) Subject

Air Transport Association (ATA) of America Code 34, Navigation.

(e) Reason

This AD was prompted by reports of untimely radio-altimeter lock-ups, where the failed radio-altimeter indicated a negative distance to the ground when the airplane was flying at medium or high altitude. We are issuing this AD to ensure that the flightcrew has procedures in the event of a radio-altimeter lock-up, which inhibits the display of warnings along with certain abnormal conditions, during the switch into landing mode during altitude cruise. If not corrected, this could result in the flightcrew being unaware of possible system failures that require immediate action by the flightcrew, leading to possible loss of control of the airplane.

(f) Compliance

You are responsible for having the actions required by this AD performed within the compliance times specified, unless the actions have already been done.

(g) Retained Airplane Flight Manual (AFM) Revision

This paragraph restates the requirements of paragraph (h) of AD 2011-13-07, Amendment 39-16730 (76 FR 36283, June 22, 2011), with editorial changes. For airplanes on which M0566 or Dassault Service Bulletin Falcon 7X-100 has been accomplished: Within 14 days after July 27, 2011 (the effective date of AD 2011-13-07), revise the Limitations Section of the Dassault Falcon 7X AFM to include the statement in figure 1 to paragraph (g) of this AD. This may be done by inserting a copy of this AD in the AFM. When a statement identical to that in figure 1 to paragraph (g) of this AD has been included in the general revisions of the AFM, the general revisions may be inserted into the AFM, and the copy of this AD may be removed from the AFM. Accomplishing the revision required by paragraph (h) of this AD terminates the requirements of this paragraph, and after the revision required by paragraph (h) of this AD has been done, before further flight, remove the revision required by this paragraph.

Figure 1 to Paragraph (g) of This AD
If radio-altimeter #1 lock-up conditions occur in flight, revert to the correct radio-altimeter output, in accordance with the instructions of Falcon 7X AFM procedure 3-140-65B and 3-140-70A.
Dispatch of the airplane with any radio-altimeter inoperative is prohibited.

(h) New Requirement of This AD: Revision of Airplane Flight Manual

For airplanes on which M0566 or Dassault Service Bulletin Falcon 7X-100 has been accomplished: Within 30 days after the effective date of this AD, do the action specified in paragraphs (h)(1) and (h)(2) of this AD.

(1) Revise the Limitations Section of the Dassault Falcon 7X AFM to include the statement in figure 2 to paragraph (h) of this AD. This may be done by inserting a copy of this AD in the AFM. Doing this revision terminates the requirements of paragraph (g) of this AD and the revision required by paragraph (g) of this AD must be removed. When a statement identical to that in figure 2 to paragraph (h) of this AD has been included in the general revisions of the AFM, the general revisions may be inserted into the AFM, and the copy of this AD may be removed from the AFM.

Figure 2 to Paragraph (h) of This AD
If radio-altimeter miscompare indication occurs in flight, revert to the correct radio-altimeter output, in accordance with the instructions of Falcon 7X AFM procedure 3-140-70A.
Dispatch of the airplane with any radio-altimeter inoperative is prohibited.

(2) Revise the Abnormal Procedures section to include procedure 3-140-70A of the Dassault Falcon 7X Airplane Flight Manual, DGT105608, Revision 15, dated January 30, 2012, into the AFM.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2011-13-07, Amendment 39-16730 (76 FR 36283, June 22, 2011), are approved as alternative methods of compliance with this AD.

(2) Airworthy Product: For any requirement in this AD to obtain corrective actions from a manufacturer, use these actions if they are FAA-approved. Corrective actions are considered FAA-approved if they were approved by the State of Design Authority (or its delegated agent, or by the DAH with a State of Design Authority's design organization approval). For a repair method to be approved, the repair approval must specifically refer to this AD. You are required to ensure the product is airworthy before it is returned to service.

(j) Related Information

(1) Refer to Mandatory Continuing Airworthiness Information (MCAI) European Aviation Safety Agency Airworthiness Directive 2009-0208R2, dated May 22, 2012, for related information. This MCAI may be found in the AD docket on the Internet at http://www.regulations.gov.

(2) For service information identified in this AD, contact Dassault Falcon Jet, P.O. Box 2000, South Hackensack, New Jersey 07606; telephone 201-440-6700; Internet http://www.dassaultfalcon.com. You may view this referenced service information at the FAA, Transport Airplane Directorate, 1601 Lind Avenue SW., Renton, WA. For information on the availability of this material at the FAA, call 425-227-1221.

Issued in Renton, Washington, on December 12, 2013.
John P. Piccola,
Acting Manager, Transport Airplane Directorate, Aircraft Certification Service.

[FR Doc. 2013-30853 Filed 12-24-13; 8:45 am]

BILLING CODE 4910-13-P